DEPARTMENT OF LABOR

Employment and Training Administration

[TA-W-81,045]

Dow Jones & Company, Inc., Dow Jones Content Services Including On-Site Workers From Aerotek, Inc., Princeton, NJ; Amended Certification Regarding Eligibility To Apply for Worker Adjustment Assistance

In accordance with Section 223 of the Trade Act of 1974, as amended (“Act”), 19 U.S.C. 2273, the Department of Labor issued a Certification of Eligibility to Apply for Worker Adjustment Assistance on January 26, 2012, applicable to workers of Aerotek, Inc., working on-site at Dow Jones Corporation, Dow Jones Content Services Princeton, New Jersey. The workers are engaged in activities related to the production of digital newsletters. The notice was published in the Federal Register on February 8, 2012 (77 FR 6590).

At the request of the New Jersey State agency, the Department reviewed the certification for workers of the subject firm. New information shows that workers of the Princeton, New Jersey location of Dow Jones & Company, Dow Jones Content Services, including on-site workers from Aerotek were engaged in activities supporting the production of digital newsletters, both experienced worker separations during the relevant time period due to the shift in the production of digital newsletters to Sophia, Bulgaria.

Accordingly, the Department is amending the certification to include workers of the Princeton, New Jersey location of Dow Jones & Company, Inc., Dow Jones Content Services.

The amended notice applicable to TA-W-81,045 is hereby issued as follows:

All workers from Dow Jones & Company, Inc., Dow Jones Content Services, including on-site workers from Aerotek, Princeton, New Jersey, who became totally or partially separated from employment on or after February 13, 2010, through January 26, 2014, and all workers in the group threatened with total or partial separation from employment on date of certification through two years from the date of certification, are eligible to apply for adjustment assistance under Chapter 2 of Title II of the Trade Act of 1074, as amended.

Signed at Washington, DC, this 22nd day of March 2012.
Elliott S. Kushner,
Certifying Officer, Office of Trade Adjustment Assistance.

[FR Doc. 2012-7795 Filed 3-30-12; 8:45 am]

BILLING CODE 4510-FN-P